DEPARTMENT OF COMMERCE

National Oceanic and Atmospheric Administration

DEPARTMENT OF THE INTERIOR

U.S. Fish and Wildlife Service

[I.D. 111606C]

Marine Mammals and Endangered Species; National Marine Fisheries Service File No. 493-1848; U.S. Fish and Wildlife Service File No. MA130062

AGENCIES: National Marine Fisheries Service (NMFS), National Oceanic and Atmospheric Administration (NOAA), Commerce; U.S. Fish and Wildlife Service, Interior.

ACTION: Notice; issuance of permit.

SUMMARY: Notice is hereby given that Darlene R. Ketten, Ph.D., Woods Hole Oceanographic Institution, Biology Department, MRF- Room 233, MS 50, Woods Hole, MA 02543 has been issued a permit to receive, import, and export marine mammal specimens for scientific research purposes.

ADDRESSES: The permit and related documents are available for review upon written request or by appointment in the following office(s):

Permits, Conservation and Education Division, Office of Protected Resources, NMFS, 1315 East-West Highway, Room 13705, Silver Spring, MD 20910; phone (301) 713-2289; fax (301) 427-2521;

Northeast Region, NMFS, One Blackburn Drive, Gloucester, MA 01930-2298; phone (978) 281-9200; fax (978) 281-9371; and

U.S. Fish and Wildlife Service, Division of Management Authority, 4401 North Fairfax Drive, Room 700, Arlington, VA 22203; phone (800) 358-2104; fax (703) 358-2281.

FOR FURTHER INFORMATION CONTACT: Jennifer Skidmore or Amy Sloan, Office of Protected Resources, NMFS, (301) 713-2289.

SUPPLEMENTARY INFORMATION: On August 28, 2006, notice was published in the Federal Register (71 FR 50893) that a request for a scientific research permit had been submitted by the above-named individual. The requested permit has been issued under the authority of the Marine Mammal Protection Act of 1972, as amended (16 U.S.C. 1361 et seq.), the regulations governing the taking and importing of marine mammals (50 CFR parts 18 and 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Dr. Ketten has been issued a scientific research permit to possess and import/export worldwide marine mammal and endangered species parts from the orders of Cetacea (dolphins, porpoises and whales), Pinnipedia (seals, sea lions and walrus), Carnivora (sea otter, Enhydra lutris, and polar bear, Ursus maritimus) and Sirenia (dugongs and manatees). Whole carcasses, heads, or temporal bones (ears) are requested from stranded animals that die prior to beaching, are euthanized upon stranding, or which die in captivity. No animals may be intentionally killed for the purpose of collecting specimens, and no money can be offered for the specimens. This permit has been issued for a period of 5 years.

In compliance with the National Environmental Policy Act of 1969 (42 U.S.C. 4321 et seq.), a final determination has been made that the activity proposed is categorically excluded from the requirement to prepare an environmental assessment or environmental impact statement. Issuance of this permit, as required by the ESA, was based on a finding that such permit: (1) was applied for in good faith; (2) will not operate to the disadvantage of such endangered species; and (3) is consistent with the purposes and policies set forth in section 2 of the ESA.

Dated: February 22, 2007.
P. Michael Payne,
Chief, Permits, Conservation and Education Division, Office of Protected Resources, National Marine Fisheries Service.

Dated: February 22, 2007.
Charlie R. Chandler,
Chief, Branch of Permits, Division of Management Authority, U.S. Fish and Wildlife Service.

[FR Doc. 07-900 Filed 2-27-07; 8:45 am]

BILLING CODE 3510-22-S